DEPARTMENT OF HEALTH AND HUMAN SERVICES

National Institutes of Health

National Center for Complementary & Alternative Medicine; Notice of Meeting

Pursuant to section 10(a) of the Federal Advisory Committee Act, as amended (5 U.S.C. appendix 2), notice is hereby given of the National Advisory Council for Complementary and Alternative Medicine (NACCAM).

The meeting will be open to the public as indicated below, with attendance limited to space available. Individuals who plan to attend and need special assistance, such as sign language interpretation or other reasonable accommodations, should notify the Contact Person listed below in advance of the meeting.

Name of Committee: National Advisory Council for Complementary and Alternative Medicine.

Date: March 17, 2003.

Open: 2 p.m. to 4 p.m.

Agenda: The agenda includes Introductory Remarks by the Executive Secretary, Opening Remarks by the Director, NCCAM and the report of the Ephedra Working Group, and other business of the Council.

Place: Neuroscience Conference Center, 6001 Executive Boulevard, Conference Rooms A1-2, Rockville, MD 20852.

Contact Person: Jane F. Kinsel, Ph.D., Executive Secretary, National Center for Complementary and Alternative Medicine, National Institutes of Health, 6707 Democracy Blvd., Suite 401, Bethesda, MD 20892, (301) 496-6701.

Copies of the meeting agenda and the roster of members is available at nccam@nih.gov or will be furnished upon request by Dr. Jane Kinsel, Executive Secretary, NACCAM, National Institutes of Health, 6707 Democracy Boulevard, Suite 401, Bethesda, Maryland 20892, 301-496-6701, Fax 301-480-0087, or via e-mail at naccames@mail.nih.gov.

The meeting is being published less than 15 days prior to the meeting due to scheduling conflicts.

Dated: February 26, 2003.
LaVerne Y. Stringfield,
Director, Office of Federal Advisory Committee Policy.

[FR Doc. 03-5219 Filed 3-5-03; 8:45 am]

BILLING CODE 4140-01-M